FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 17, 2009.

A. Federal Reserve Bank of Minneapolis (Jacqueline G. King, Community Affairs Officer) 90 Hennepin Avenue, Minneapolis, Minnesota 55480-0291:

1. Donald A. Hanson Family Trust, which consist of Donna L. Hanson, LeRoy, Minnesota, individually and as trustee of the Family Trust, Jeanie Rae Thorson, Rochester, Minnesota, as trustee of the Family Trust, Barbara Kay Billings, Cresco, Iowa, as trustee of the Family Trust, and Kristi Jo Jacobsen, Cannon Falls, Minnesota, as trustee of the Family Trust, as a group acting in concert; to acquire and retain shares of First LeRoy Bancorporation, Inc., LeRoy, Minnesota, and thereby indirectly acquire and retain control of First State Bank Minnesota, LeRoy, Minnesota.

Board of Governors of the Federal Reserve System, May 29, 2009.
Robert deV. Frierson,
Deputy Secretary of the Board.

[FR Doc. E9-12896 Filed 6-2-09; 8:45 am]

BILLING CODE 6210-01-S